DEPARTMENT OF HOMELAND SECURITY

Federal Emergency Management Agency

44 CFR Part 67

[Docket No. FEMA-B-7762]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before May 22, 2008.

ADDRESSES: The corresponding preliminary Flood Insurance Rate Map (FIRM) for the proposed BFEs for each community are available for inspection at the community's map repository. The respective addresses are listed in the table below.

You may submit comments, identified by Docket No. FEMA-B-7762, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
Unincorporated Areas of Siskiyou County, California
California | Unincorporated Areas of Siskiyou County | Panther Creek (Shallow Flooding) | Shallow flooding areas between Squaw Valley Creek and McCloud River Railroad | None | # 1
|  |  | Shallow flooding areas between Squaw Valley Creek and McLoud River Railroad | None | # 3
California | Unincorporated Areas of Siskiyou County | Squaw Valley Creek | At the downstream side of Cemetery Road | None | * 3090
|  |  | Approximately 100 feet upstream of McCloud River Railroad | None | * 3400
California | Unincorporated Areas of Siskiyou County | Squaw Valley Creek (Shallow Flooding) | Shallow flooding areas between Cemetery Road and McCloud River Railroad | None | # 1
|  |  | Shallow flooding areas between Cemetery Road and McCloud River Railroad | None | # 3
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Siskiyou County
Maps are available for inspection at the Siskiyou County Planning Department, 305 Butte Street, Yreka, CA.
Unincorporated Areas of Trinity County, California
California | Unincorporated Areas of Trinity County | Carter Gulch | At the confluence with Hayfork Creek | * 2319 | * 2304
|  |  | Approximately 960 feet upstream of Highway 3 | None | * 2340
California | Unincorporated Areas of Trinity County | Ewing Gulch | At the confluence with Hayfork Creek | * 2321 | * 2305
|  |  | Approximately 780 feet upstream of State Highway 3 | None | * 2343
California | Unincorporated Areas of Trinity County | Hayfork Creek | Approximately 260 feet downstream of the confluence of Salt Creek | None | * 2280
|  |  | Approximately 300 feet upstream of Oak Avenue | None | * 2322
California | Unincorporated Areas of Trinity County | Kellogg Gulch | At the confluence with Hayfork Creek | * 2317 | * 2302
|  |  | Approximately 980 feet upstream of State Highway 3 | None | 2343
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Trinity County
Maps are available for inspection at the Trinity County Planning Department and Planning Commission, 60 Glen Road, Weaverville, CA.

Flooding source(s) | Location of referenced elevation** | * Elevation in feet (NGVD) + Elevation in feet (NAVD) # Depth in feet above ground: Effective | * Elevation in feet (NGVD) + Elevation in feet (NAVD) # Depth in feet above ground: Modified | Communities affected
Tehama County, California, and Incorporated Areas
Grasshopper Creek | Approximately 1,500 feet upstream of the confluence with Red Bank Creek | None | *275 | Unincorporated Areas of Tehama County, City of Red Bluff.
| Approximately 0.4 mile upstream of South Jackson Street | None | *312 |
Highway 99W Overflow | Approximately 150 feet upstream of the confluence witih Red Bank Creek | None | *282 | Unincorporated Areas of Tehama County.
| Approximately 0.5 mile upstream of the confluence with Red Bank Creek | None | *291
Spyglass Drive Overflow | At the confluence with Grasshopper Creek | None | *300 | City of Red Bluff.
| At the upstream side of South Jackson Street | None | *308
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Red Bluff
Maps are available for inspection at Red Bluff City Hall, 555 Washington Street, Red Bluff, CA.
Unincorporated Areas of Tehama County
Maps are available for inspection at Tehama County Planning Department, 444 Oak Street, Red Bluff, CA.
Tippecanoe County, Indiana, and Incorporated Areas
Cole Ditch | At its confluence with Burnett Creek | None | +627 | Unincorporated Areas of Tippecanoe County.
| Approximately 4,000 feet upstream of County Road 150 | None | +669 |
Cole Ditch Unnamed Tributary 1 | At its confluence with Cole Ditch | None | +647 | Unincorporated Areas of Tippecanoe County, City of West Lafayette.
| Approximately 1,250 feet upstream of Kalberger Road | None | +694 |
Cole Ditch Unnamed Tributary 2 | At its confluence with Cole Ditch | None | +628 | Unincorporated Areas of Tippecanoe County.
| Approximately 1,340 feet upstream of County Road 500 | None | +655 |
Cuppy Ditch | At its confluence with Cole Ditch | None | +649 | Unincorporated Areas of Tippecanoe County.
| Approximately 50 feet upstream of Morehouse Road | None | +655 |
East Branch Wea Creek | At its confluence with Wea Creek | None | +684 | Unincorporated Areas of Tippecanoe County.
| Approximately 50 feet upstream of County Road 500 | None | +756 |
Indian Creek | Approximately 2,900 feet downstream of County Road 400 | None | +631 | Unincorporated Areas of Tippecanoe County.
| Approximately 1,775 feet upstream of U.S. Highway 52 | None | +654 |
Tippecanoe River | At its confluence with the Wabash River | None | +538 | Unincorporated Areas of Tippecanoe County.
| At the County Boundary | None | +544
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of West Lafayette
Maps are available for inspection at Area Plan Commission of Tippecanoe County, 20 North Third Street, Lafayette, IN 47901.
Unincorporated Areas of Tippecanoe County
Maps are available for inspection at Area Plan Commission of Tippecanoe County, 20 North Third Street, Lafayette, IN 47901.
Camden County, New Jersey, and Incorporated Areas
Mason Run | At a point located approximately 1,700 feet upstream of the confluence with North Branch Big Timber Creek | +19 | +20 | Borough of Lindenwold, Borough of Pine Hill, Township of Gloucester.
| At a point located approximately 100 feet upstream of Blackwood-Clementon Road/County Route 534 | None | +35 |
North Branch Big Timber Creek | At a point approximately 400 feet upstream from the confluence of Mason Run | +19 | +18 | Borough of Clementon, Borough of Laurel Springs, Borough of Lindenwold, Borough of Stratford.
| At a point located approximately 2,240 feet upstream of East Atlantic Avenue/State Route 727 | None | +43
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Borough of Clementon
Maps are available for inspection at Clementon Borough Hall, 101 Gibbsboro Road, Clementon, NJ.
Borough of Laurel Springs
Maps are available for inspection at Laurel Springs Borough Hall, 135 Broadway Avenue, Laurel Springs, NJ.
Borough of Lindenwold
Maps are available for inspection at Lindenwold Borough Construction Office, 2001 Egg Harbor Road, Lindenwold, NJ.
Borough of Pine Hill
Maps are available for inspection at Pine Hill Borough Hall, 45 West 7th Avenue, Pine Hill, NJ.
Borough of Stratford
Maps are available for inspection at Stratford Borough Hall, 307 Union Avenue, Stratford, NJ.
Township of Gloucester
Maps are available for inspection at Township of Gloucester Municipal Building, 1261 Chews Landing Road, Blackwood, NJ.
Monmouth County, New Jersey, and Incorporated Areas
Manalapan Brook | At County boundary | +75 | +76 | Township of Manalapan, Township of Millstone.
| Approximately 500 feet upstream of Moonlight Court | None | +181 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Township of Manalapan
Maps are available for inspection at Manalapan Township Municipal Building, 120 Route 522, Manalapan, NJ.
Township of Millstone
Maps are available for inspection at Millstone Township Municipal Building, 470 Stagecoach Road, Millstone, NJ.

(Catalog of Federal Domestic Assistance No. 97.022, “Flood Insurance.”)

Dated: February 8, 2008.
David I. Maurstad,
Federal Insurance Administrator of the National Flood Insurance Program, Department of Homeland Security, Federal Emergency Management Agency.

[FR Doc. E8-3366 Filed 2-21-08; 8:45 am]

BILLING CODE 9110-12-P xxxxxxxxxxxxxxxxxxxxxxxxxxx xxxxxxxxxxxxxx